DEPARTMENT OF COMMERCE

International Trade Administration

[A-570-979, C-570-980]

Crystalline Silicon Photovoltaic Cells, Whether or Not Assembled Into Modules, From the People's Republic of China: Initiation and Preliminary Results of Changed Circumstances Reviews and Intent To Revoke the Antidumping and Countervailing Duty Orders, in Part

AGENCY: Enforcement and Compliance, International Trade Administration, Department of Commerce.

SUMMARY: Based on a request from Nextracker LLC (Nextracker), the U.S. Department of Commerce (Commerce) is initiating and issuing preliminary results of changed circumstances reviews (CCRs) of the antidumping duty (AD) and countervailing duty (CVD) orders on crystalline silicon photovoltaic cells (solar cells), whether or not assembled into modules, from the People's Republic of China (China) to revoke the orders, in part, with respect to certain products. Interested parties are invited to comment on these preliminary results.

DATES: Applicable September 30, 2025.

FOR FURTHER INFORMATION CONTACT: Maureen Shaheen, Acting Director, Office of Antidumping Policy, Enforcement and Compliance, International Trade Administration, U.S. Department of Commerce, 1401 Constitution Avenue NW, Washington, DC 20230; telephone: (202) 482-3004.

SUPPLEMENTARY INFORMATION:

Background

On December 7, 2012, Commerce published the AD and CVD orders on solar cells from China.¹ On June 27, 2025, Nextracker, an importer of solar cells, requested that Commerce initiate CCRs to revoke the Orders, in part, with respect to certain products, pursuant to section 751(b)(1)(A) of the Tariff Act of 1930, as amended (the Act), and 19 CFR 351.216(b).² Nextracker stated that it qualifies as an importer of solar cells currently subject to duties and, as such, is an interested party.³

¹ See Crystalline Silicon Photovoltaic Cells, Whether or Not Assembled into Modules, from the People's Republic of China: Countervailing Duty Order, 77 FR 73017 (December 7, 2012) (CVD Order); and Crystalline Silicon Photovoltaic Cells, Whether or Not Assembled into Modules, from the People's Republic of China: Antidumping Duty Order, 77 FR 73018 (December 7, 2012) (AD Order) (collectively, Orders).

² See Nextracker's Letter, “Crystalline Silicon Photovoltaic Cells, Whether or Not Assembled into Modules, from the People's Republic of China: Request for Changed Circumstances Review,” dated June 27, 2025 (Nextracker's CCR Request).

³ Id.

On June 30, 2025, the American Alliance for Solar Manufacturing (the petitioner), filed a letter of no opposition to Nextracker's CCR Request.⁴ On July 15, 2025, Bila Solar, Inc. and Sunspark Group each filed a letter of no opposition to Nextracker's CCR Request.⁵ On July 18 and July 21, 2025, Commerce received letters of no opposition from Jinko Solar and Canadian Solar, respectively.⁶

⁴ See Petitioner's Letter, “The American Alliance for Solar Manufacturing's Letter of No Opposition to Nextracker's CCR Request,” dated June 30, 2025 (Petitioner's Letter of No Opposition).

⁵ See Bila Solar, Inc.'s Letter, “Bila Solar Inc. Letter of No Opposition to Nextracker's CCR Request,” dated July 15, 2025 (Bila Solar's Letter of No Opposition); and Sunspark Group's Letter, “Sunspark Group Letter of No Opposition to Nextracker's CCR Request,” dated July 15, 2025 (Sunspark's Letter of No Opposition).

⁶ See Jinko Solar Inc.'s Letter, “Jinko Solar Inc. Letter of No Opposition to Nextracker's CCR Request,” dated July 18, 2025 (Jinko Solar's Letter of No Opposition); and Canadian Solar's Letter, “Canadian Solar Letter of No Opposition to Nextracker's CCR Request,” dated July 15, 2025 (Canadian Solar's Letter of No Opposition).

Scope of the Orders ⁷

⁷ See Orders.

The merchandise covered by these Orders is crystalline silicon photovoltaic cells, and modules, laminates, and panels, consisting of crystalline silicon photovoltaic cells, whether or not partially or fully assembled into other products, including, but not limited to, modules, laminates, panels and building integrated materials.

These Orders cover crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of this order.

Excluded from the scope of these Orders are thin film photovoltaic products produced from amorphous silicon (a-Si), cadmium telluride (CdTe), or copper indium gallium selenide (CIGS).

Also excluded from the scope of these Orders are crystalline silicon photovoltaic cells, not exceeding 10,000mm2 in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Modules, laminates, and panels produced in a third-country from cells produced in the PRC are covered by these Orders; however, modules, laminates, and panels produced in the PRC from cells produced in a third-country are not covered by this order.

Merchandise covered by these Orders is currently classified in the Harmonized Tariff System of the United States (HTSUS) under subheadings 8501.61.0000, 8507.20.80, 8541.40.6020, 8541.40.6030, and 8501.31.8000. U.S. Customs and Border Protection (CBP) provided notification that HTSUS number 8501.31.8000 should be added to the scope of these Orders, as certain articles under this number may fall within the scope.

Scope of the CCRs

The products subject to the proposed partial revocation are Off-grid solar cells panels for dedicated powering of a single low-voltage device (60Vdc or less) that:

1. Have a glass cover;

2. Have an aluminum frame around the edges of each panel;

3. Have a total power output of 140 watts or less per panel;

4. Are of an elongated rectangular shape such that the long side is at least 3.5 times the length of the short side;

5. Have a surface area of less than 8,200 cm2 per panel;

6. Connect to device with 12-16 American Wire Gauge wires between 1200 mm and 1310 mm in length; and

7. Do not include a built-in inverter.

Nextracker describes the first of the two products as a self-powered controller, which measures the tilt of the panels and controls the tracker position.⁸ The second product is a weather sensor which monitors weather conditions to initiate protective measures during extreme weather events.⁹ Both products are less powerful and smaller compared to typical solar panels and are produced to provide power to Nextracker components rather than to compete with other photovoltaic models.¹⁰

⁸ See Nextracker's CCR Request.

⁹ Id. at 8.

¹⁰ Id. at 8

Initiation of CCRs

Pursuant to section 751(b)(1) of the Act, Commerce will conduct a CCR upon receipt of a request from an interested party that shows changed circumstances sufficient to warrant a review of the order. In accordance with 19 CFR 351.216(d), Commerce determines that the information submitted by Nextracker, along with substantially all of the domestic industry's support, shows changed circumstances sufficient to warrant a review of the Orders.

Preliminary Results of the CCRs and Intent To Revoke the Orders, in Part

Section 351.221(c)(3)(ii) of Commerce's regulations permits Commerce to combine the notice of initiation of a CCR and the notice of preliminary results if Commerce concludes that expedited action is warranted.¹¹ In this instance, because the record contains information necessary to make a preliminary finding, we find that expedited action is warranted and have combined the notice of initiation and the notice of preliminary results.¹²

¹¹ See 19 CFR 351.221(c)(3)(ii); see also Certain Pasta from Italy: Initiation and Preliminary Results of Antidumping Duty Changed Circumstances Review, 80 FR 33480, 33480-41 (June 12, 2015) (Pasta from Italy CCR Prelim), unchanged in Certain Pasta from Italy: Final Results of Changed Circumstances Review, 80 FR 48807 (August 14, 2015) (Pasta from Italy CCR Final).

¹² See, e.g., Pasta from Italy CCR Prelim, 80 FR at 33480-41, unchanged in Pasta from Italy CCR Final, 80 FR at 48807.

Pursuant to section 751(d)(1) of the Act, and 19 CFR 351.222(g), Commerce may revoke an AD or CVD order, in whole or in part, based on a review under section 751(b) of the Act (i.e., a CCR). Section 782(h)(2) of the Act gives Commerce the authority to revoke an order if producers accounting for substantially all of the production of the domestic like product have expressed a lack of interest in the order. Section 351.222(g) of Commerce's regulations provides that Commerce will conduct a CCR of an AD or CVD order under 19 CFR 351.216, and may revoke an order (in whole or in part), if it concludes that: (i) producers accounting for substantially all of the production of the domestic like product to which the order pertains have expressed a lack of interest in the relief provided by the order, in whole or in part; or (ii) if other changed circumstances sufficient to warrant revocation exist. Thus, both the Act and Commerce's regulations require that “substantially all” domestic producers express a lack of interest in the order for Commerce to revoke the order, in whole or in part.¹³ In its administrative practice, Commerce has interpreted “substantially all” to represent producers accounting for at least 85 percent of U.S. production of the domestic like product.¹⁴

¹³ See section 782(h) of the Act; and 19 CFR 351.222(g).

¹⁴ See, e.g., Honey from Argentina: Antidumping and Countervailing Duty Changed Circumstances Reviews; Preliminary Intent to Revoke Antidumping and Countervailing Duty Orders, 77 FR 67790, 67791 (November 14, 2012), unchanged in Honey from Argentina: Final Results of Antidumping and Countervailing Duty Changed Circumstances Reviews; Revocation of Antidumping and Countervailing Duty Orders, 77 FR 77029 (December 31, 2012).

As explained above, domestic solar cells producers, including the original petitioner and four other domestic solar cells producers, have expressed no interest in opposing Nextracker's CCR Request.¹⁵ Substantially all of the domestic industry appears to have no interest in maintaining the Orders with respect to the specific products which are the subject of Nextracker's CCR Request.¹⁶

¹⁵ See Petitioner's Letter of No Opposition; Bila Solar's Letter of No Opposition; Sunspark's Letter of No Opposition; Jinko Solar's Letter of No Opposition; and Canadian Solar's Letter of No Opposition.

¹⁶ See Petitioner's Letter of No Opposition; Bila Solar's Letter of No Opposition; Sunspark's Letter of No Opposition; Jinko Solar's Letter of No Opposition; and Canadian Solar's Letter of No Opposition.

In the absence of any other interested party comments addressing the issue of domestic industry support, we preliminarily conclude that producers accounting for substantially all of the production of the domestic like product to which the Orders pertain lack interest in the relief provided by the Orders with respect to solar cells that are the subject of Nextracker's revocation request. Thus, we preliminarily determine that changed circumstances warrant revocation of the Orders, in part, with respect to such off-grid solar cells as described by Nextracker. Accordingly, we are notifying the public of our intent to revoke the Orders, in part, with respect to solar cells described in the “Scope of the CCRs” section above.

Further, the domestic industry does not oppose Nextracker's CCR Request that the scope exclusion language should be retroactive to January 1, 2022. However, our practice is to limit retroactive revocation to entries not covered by an ongoing administrative review.¹⁷ Therefore, if we make a final determination to revoke the Orders, in part, then we intend to apply the partial revocation to unliquidated entries of merchandise subject to the CCRs that were entered or withdrawn from warehouse, for consumption, on or after January 1, 2024, for the CVD Order and December 1, 2024, for the AD Order.

¹⁷ See Barium Chloride from the People's Republic of China and India: Final Results of Changed Circumstances Reviews and Revocation of the Antidumping Duty and Countervailing Duty Orders, 89 FR 87852 (November 5, 2024).

Public Comment

In accordance with 19 CFR 351.309(c)(1)(ii), interested parties may submit case briefs no later than 14 days after the date of publication of this notice.¹⁸ Rebuttal briefs, limited to issues raised in the case briefs, may be filed no later than five days after the due date for case briefs.¹⁹

¹⁸ Commerce is exercising its discretion under 19 CFR 351.309(c)(1)(ii) to alter the time limit for the filing of case briefs.

¹⁹ See 19 CFR 351.309(d); see also Administrative Protective Order, Service, and Other Procedures in Antidumping and Countervailing Duty Proceedings, 88 FR 67069, 67077 (September 29, 2023) (APO and Service Final Rule).

As provided under 19 CFR 351.309(c)(2) and (d)(2), in prior proceedings we have encouraged interested parties to provide an executive summary of their brief that should be limited to five pages total, including footnotes. In these CCRs, we instead request that interested parties provide at the beginning of their briefs a public, executive summary for each issue raised in their briefs.²⁰ Further, we request that interested parties limit their executive summary of each issue to no more than 450 words, not including citations. We intend to use the executive summaries as the basis of the comment summaries included in the Issues and Decision Memorandum that will accompany the final results in these CCRs. We request that interested parties include footnotes for relevant citations in the executive summary of each issue. Note that Commerce has amended certain of its requirements pertaining to the service of documents in 19 CFR 351.303(f).²¹ An electronically filed document must be received successfully in its entirety via Enforcement and Compliance's Antidumping and Countervailing Duty Centralized Electronic Service System (ACCESS) by 5:00 p.m. Eastern Time on the day on which it is due. ACCESS is available to registered users at http://access.trade.gov.

²⁰ We use the term “issue” here to describe an argument that Commerce would normally address in a comment of the Issues and Decision Memorandum.

²¹ See APO and Service Final Rule.

Final Results of Reviews

Unless extended, consistent with 19 CFR 351.216(e), Commerce intends to issue the final results of these CCRs no later than 270 days after the date on which these reviews were initiated or 45 days if all parties agree to the outcome of the reviews. If, in the final results of these reviews, Commerce continues to determine that changed circumstances warrant the revocation of the Orders, in part, we will instruct U.S. Customs and Border Protection (CBP) to liquidate without regard to antidumping or countervailing duties, and to refund any estimated antidumping or countervailing duties deposited on all unliquidated entries of the merchandise covered by the revocation on or after January 1, 2024, for the CVD Order and December 1, 2024, for the AD Order. The current requirement for cash deposits of estimated antidumping or countervailing duties on all entries of subject merchandise will continue unless they are modified pursuant to the final results of these CCRs.

Notification to Interested Parties

This initiation notice and preliminary results are published in accordance with section 751(b)(1) of the Act, 19 CFR 351.221(b)(1), and 19 CFR 351.221(c)(3)(ii).

Dated: September 25, 2025.
Christopher Abbott,
Deputy Assistant Secretary for Policy and Negotiations, performing the non-exclusive functions and duties of the Assistant Secretary for Enforcement and Compliance.

[FR Doc. 2025-19032 Filed 9-29-25; 8:45 am]

BILLING CODE 3510-DS-P